INTER-AMERICAN FOUNDATION

Sunshine Act Meetings; Board Meeting

Time and Date: July 28, 2008, 9 a.m.-2:30 p.m.

Place: 901 N. Stuart Street, Tenth Floor, Arlington, Virginia 22203.

Status: Open to the public.

Matters to be Considered: • Approval of the Minutes of the January 28, 2008, Meeting of the Board of Directors

• President's Report

• Program Update

• Operations Update

• Congressional Affairs Update

• RedEAmérica/Corporate Partnership Update

• Planning for the IAF's 40th Anniversary

• Advisory Council

Portions to be Open to the Public: • Approval of the Minutes of the January 28, 2008, Meeting of the Board of Directors

• President's Report

• Program Update

• Operations Update

• Congressional Affairs Update

• RedEAmérica/Corporate Partnership Update

• Planning for the IAF's 40th Anniversary

• Advisory Council

Contact Person for More Information: Rebecca B. Verreau, (703) 306-4314

Dated: July 14, 2008.
Rebecca B. Verreau,
Attorney.

[FR Doc. 08-1444 Filed 7-15-08; 3:31 pm]

BILLING CODE 7025-01-P